DEPARTMENT OF THE INTERIOR

Bureau of Land Management

[NV040-1920-PN-4138; NVN-50250; 8-08807; TAS: 14X1109]

Notice of Proposed Withdrawal Extension and Opportunity for Public Meeting, Yucca Mountain, Nye County, NV

AGENCY: Bureau of Land Management, Interior.

ACTION: Notice.

SUMMARY: The Department of Energy (DOE) proposes to extend the duration of Public Land Order (PLO) No. 6802, issued in 1990, and extended by PLO No. 7534 for an additional 12 year period. PLO No. 6802 withdrew 4,255.50 acres of public land in Nye County from location and entry under the United States mining laws (30 U.S.C. 2), and from leasing under the mineral leasing laws, to maintain the physical integrity of the subsurface environment at Yucca Mountain.

DATES: Comments and requests for a meeting should be received on or before December 11, 2008.

ADDRESSES: Comments and meeting requests may be mailed to the Nevada State Director, Attn: NV 930 Yucca Mountain Withdrawal, Bureau of Land Management, 1340 Financial Blvd., P.O. Box 12000, Reno, NV 89520.

FOR FURTHER INFORMATION CONTACT: Jacqueline M. Gratton, 775-861-6532.

SUPPLEMENTARY INFORMATION: The withdrawal created by PLO No. 6802 (55 FR 39152 (1990)) as extended by PLO No. 7534 (67 FR 53359 (2002)) will expire on January 31, 2010, unless extended. The DOE filed an application to extend their withdrawal of public land at Yucca Mountain in Nye County. The proposed twelve (12) year extension would continue the withdrawal of public land from location under the United States mining laws and from leasing under the mineral leasing laws for the lands described in PLO No. 6802.

The DOE proposes to extend the withdrawal through January 31, 2022. The extension of the withdrawal would maintain the physical integrity of the subsurface environment to ensure that scientific studies for site characterization at Yucca Mountain are not invalidated or otherwise adversely impacted. Site characterization activities will be used to determine the suitability of Yucca Mountain for a permanent nuclear waste repository.

The use of a right-of-way, interagency, or cooperative agreement would not adequately constrain nondiscretionary uses which could result in permanent loss of significant values and threaten public health and safety and Federal investment.

There are no suitable alternative sites since the lands described herein contain the specific resource value and Federal improvements described in the application.

No water rights would be needed to fulfill the purpose of the requested withdrawal extension.

Records relating to the application may be examined by contacting Jacqueline M. Gratton at the address or phone number above.

For a period of 90 days from the date of publication of this notice, all persons who wish to submit comments, suggestions, or objections in connection with the proposed withdrawal extension may present their views in writing to the Nevada State Director of the Bureau of Land Management.

Comments, including names and street addresses of respondents, will be available for public review at the BLM Nevada State Office at the address stated above, during regular business hours: 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested persons who desire a public meeting for the purpose of being heard on the proposed extension must submit a written request to the Nevada State Director within 90 days from the date of publication of this notice. Upon determination by the authorized officer that a public meeting will be held, a notice of the time and place will be published in the Federal Register and at least one local newspaper 30 days before the scheduled date of the meeting.

This withdrawal extension proposal will be processed in accordance with the applicable regulations set forth in accordance with 43 CFR 2310.4

Authority: 43 CFR 2310.3-1.

Dated: September 4, 2008.
Michael R. Holbert,
Deputy State Director, Resources, Lands and Planning.

[FR Doc. E8-21338 Filed 9-11-08; 8:45 am]

BILLING CODE 4310-HC-P